DEPARTMENT OF AGRICULTURE

Food and Nutrition Service

7 CFR Part 250

Donation of Foods for Use in the United States, its Territories and Possessions and Areas Under its Jurisdiction

CFR Correction

In Title 7 of the Code of Federal Regulations, parts 210 to 299, revised as of January 1, 2003, on page 466, § 250.30 is corrected by reinstating paragraph (f)(1) introductory text. The reinstated text reads as follows:

§ 250.30 State processing of donated foods.

* * * * *

(f) * * *

(1) The processing contract may provide for substitution of donated foods as defined in § 250.3 except that donated beef and donated pork shall not be substitutable. Any substitution of commercial product for commodities other than beef, pork, or poultry is subject to a 100-percent yield requirement. Under the 100-percent yield requirement, the processor is responsible for any manufacturing losses.

* * * * *

[FR Doc. 03-55519 Filed 8-5-03; 8:45 am]

BILLING CODE 1505-01-D